DEPARTMENT OF LABOR

Employment and Training Administration

[TA-W-56,256]

Rehau Incorporated, Sturgis Plant, Sturgis, MI; Notice of Termination of Investigation

Pursuant to Section 221 of the Trade Act of 1974, as amended, an investigation was initiated on December 28, 2004 in response to a petition filed by a company official on behalf of workers at Rehau, Incorporated, Sturgis Plant, Sturgis, Michigan.

The petitioner has requested that the petition be withdrawn. Consequently, the investigation has been terminated.

Signed at Washington, DC, this 5th day of January, 2005.
Richard Church,
Certifying Officer, Division of Trade Adjustment Assistance.

[FR Doc. E5-709 Filed 2-22-05; 8:45 am]

BILLING CODE 4510-30-P